NUCLEAR REGULATORY COMMISSION

Agency Information Collection Activities: Proposed Collection; Comment Request

AGENCY: U.S. Nuclear Regulatory Commission (NRC).

ACTION: Notice of pending NRC action to submit an information collection request to the Office of Management and Budget (OMB) and solicitation of public comment.

SUMMARY: The NRC is preparing a submittal to OMB for review of continued approval of information collection under the provisions of the Paperwork Reduction Act of 1995 (44 U.S.C. Chapter 35).

Information pertaining to the requirement to be submitted:

1. The titles of the information collection: (1) NRC Form 212, “Qualifications Investigation, Professional, Technical, and Administrative Positions” (other than clerical positions); (2) NRC Form 212A, “Qualifications Investigation, Secretarial/Clerical”.

2. Current OMB approval numbers: (1) 3150-0033; (2) 3150-0034.

3. How often the collection is required: On occasion.

4. Who is required or asked to report: Current/former supervisors, co-workers of applicants for employment.

5. The estimated number of annual respondents: (1) NRC Form 212: 1200; (2) NRC Form 212A: 400.

6. The estimate of the total number of hours needed annually to complete the requirement or request: (1) NRC Form 212: 300 hours (15 minutes per response); (2) NRC Form 212A: 100 hours (15 minutes per response).

7. Abstract: Information requested on NRC Form 212, “Qualifications Investigation, Professional, Technical, and Administrative Positions (other than clerical positions)” and NRC Form 212A, “Qualifications Investigation, Secretarial/Clerical” is used to determine the qualifications and suitability of external applicants for employment with NRC. The completed forms may be used to examine, rate and/or assess the prospective employee's qualifications. The information regarding the qualifications of applicants for employment is reviewed by professional personnel of the Office of Human Resources, in conjunction with other information in the NRC files, to determine the qualifications of the applicant for appointment to the position under consideration.

Submit, by May 14, 2007, comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

A copy of the draft supporting statement may be viewed free of charge at the NRC Public Document Room, One White Flint North, 11555 Rockville Pike, Room O-1 F21, Rockville, MD 20852. OMB clearance requests are available at the NRC worldwide Web site: http://www.nrc.gov/public-involve/doc-comment/omb/index.html. The document will be available on the NRC home page site for 60 days after the signature date of this notice.

Comments and questions about the information collection requirements may be directed to the NRC Clearance Officer, Margaret A. Janney, Mail Stop: T-5F52, U.S. Nuclear Regulatory Commission, Washington, DC 20555-0001, by telephone at 301-415-7245, or by Internet electronic mail to InfoCollects@nrc.gov.

Dated at Rockville, Maryland, this 8th day of March, 2007.
For the Nuclear Regulatory Commission.
Margaret A. Janney,
NRC Clearance Officer, Office of Information Services.

[FR Doc. E7-4672 Filed 3-13-07; 8:45 am]

BILLING CODE 7590-01-P